DEPARTMENT OF HOMELAND SECURITY

[Docket Number DHS-2022-0043]

Agency Information Collection Activities: DHS Hummingbird on ServiceNow Platform

AGENCY: Department of Homeland Security (DHS).

ACTION: 60-Day notice and request for comments.

SUMMARY: The Department of Homeland Security, will submit the following Information Collection Request (ICR) to the Office of Management and Budget (OMB) for review and clearance in accordance with the Paperwork Reduction Act of 1995.

DATES: Comments are encouraged and will be accepted until August 30, 2022. This process is conducted in accordance with 5 CFR 1320.1.

ADDRESSES: You may submit comments, identified by docket number Docket # DHS-2022-0043, at:

○ Federal eRulemaking Portal: http://www.regulations.gov. Please follow the instructions for submitting comments.

Instructions: All submissions received must include the agency name and docket number Docket # DHS-2022-0043. All comments received will be posted without change to http://www.regulations.gov, including any personal information provided.

Docket: For access to the docket to read background documents or comments received, go to http://www.regulations.gov.

SUPPLEMENTARY INFORMATION: The Department of Homeland Security (DHS) Headquarters (HQ) Hummingbird program is a U.S. Government program, initiated in July 2021 pursuant to the Presidential Memorandum on the Designation of the Department of Homeland Security as Lead Federal Department for Facilitating the Entry of Vulnerable Afghans into the United States and in support of Operation Allies Welcome (OAW). DHS, in coordination with the Department of State (DOS), is supporting screening, processing and resettlement efforts for individuals coming from Afghanistan who are neither U.S. citizens nor lawful permanent residents. This includes initial screening and vetting prior to entering the U.S., managing humanitarian parole, issuing special immigrant visas, processing at pre-designated U.S. military bases, applications for immigration status, work authorization, and essential coverage, and resettlement assistance. The legal authority for this program is provided under Section 402, of the Homeland Security Act of 2002, as revised (Pub. L. 107-296) (6 U.S.C. 202).

DHS remains committed to building a safe, orderly, and humane immigration system that upholds our laws and values. All information, including PII, entered by applicants and parolees into the Hummingbird system will be used by DHS employees and staff to determine an applicant's eligibility to apply for a SIV through OAW, and to assist with processing and resettlement of parolees.

Hummingbird allows DHS to track applicants through applicable stages of case processing at U.S. military bases, view case information and applicant biodata, update and track completion of various processing activities on base, and use the searching and filtering capabilities to produce reports. Therefore, DHS is establishing the Hummingbird System.

The purpose of this effort is to provide centralized and standardized tracking and reporting for OAW, including resettlement progress. Afghans who are eligible for SIVs are those that took significant risks to support U.S. military and civilian personnel in Afghanistan, employed by or on behalf of the U.S. government or coalition forces in Afghanistan, or are a family member of someone who did.

The information, including PII, collected and used by the Hummingbird application on the ServiceNow platform will be able to be shared, disseminated, and viewed by the following:

• DHS Partners:

○ United States Citizenship and Immigration Services (USCIS)

• Federal Partners:

○ Department of State (DOS)

○ Health and Human Services

• International Partners:

○ International Organization for Migration (IOM)

The NGOs accessing the system as Task Force Users are under DoS IRC's umbrella/management. There are a host of individuals with day jobs at different organizations who access to Hummingbird but their work at safe havens in Hummingbird is on behalf of IRC.Non-Government Organizations and Private Sector Organizations With RolemBased Access:

• International Organization for Migration (IOM)

• Church World Service (CWS)

• World Relief (WR)

• International Rescue Committee (IRC)

• HIAS (formerly Hebrew Immigrant Aid Society)

• United States Conference of Catholic Bishops (USCCB)

• Ethiopian Community Development Council (ECDC)

• Episcopal Migration Ministries (DFMS/EMM)

• U.S. Committee for Refugees and Immigrants (USCRI)

• Lutheran Immigration and Refugee Services (LIRS)

• Community Sponsorship Hub

• State Afghan Placement and Assistance (SAPA)

Hummingbird stores Special Immigrant Visa (SIV) applicant and parolee data and is used to track applicants through applicable stages of case processing at U.S. military bases. In Hummingbird, authorized users can view case information and applicant biodata, update and track completion of various processing activities on base, and use the searching and filtering capabilities to produce reports. Additionally, Hummingbird will allow DHS to provide centralized and standardized reporting for Operation Welcome Allies, including resettlement progress.

Hummingbird may collect the following types of information, including personally identifiable information (PII), medical information, travel information, and resettlement information on parolees. The data dictionary outlining all of these fields will be included with this ICR package.

Hummingbird is a cloud-based, externally facing, case management system supported by ServiceNow in the DHS HQ ServiceNow environment. The system can be accessed at the following URL through March 25, 2022: https://seirmprod.servicenowservices.com/hb. After March 25, 2022, the system will be accessible in the DHS HQ environment and can be reached at the following URL: https://dhshqhb.servicenowservices.com. System access is only given to users who have a legitimate need to complete required Hummingbird job tasks. Individuals in the public who are not affiliated with the Hummingbird program are not granted access.

Field workers at safe havens in the United States verbally gather biographical and contact information from the enrollee. All other information is entered by field workers as they complete tasks in Hummingbird or entered and updated via system interconnections.

This information collection does not have an impact on small businesses or other small entities.

Hummingbird supports the OAW program pursuant to the Presidential Memorandum on the Designation of the Department of Homeland Security as Lead Federal Department for Facilitating the Entry of Vulnerable Afghans into the United States. Barring the information collection made possible by Hummingbird, DHS would be non-compliant with the President's direction.

Should Hummingbird be inaccessible via a public facing website, processing enrollees who are eligible for benefits such as resettlement assistance, and medical assistance would move to a paper and excel based process the would be highly inefficient. This inefficiency would lead to very lengthy processing times with a higher risk of errors leaving parolees living at safe havens for extended periods of time. Additionally, if important data was lost in a manual process, enrollees could lose valuable benefits they need to survive.

Ultimately, without the ability manage critical elements of the Hummingbird program through the Hummingbird application, many Afghans who took significant risks to assist the U.S. military in its efforts in Afghanistan and may be in humanitarian crisis will be unable to obtain the ability to apply for a Special Immigrant Visa through OAW. Further, parolees will be unable to receive humanitarian, medical, employment, and resettlement assistance as they adjust to life in the U.S. Without Hummingbird, DHS will be unable to support its commitment to building a safe, orderly, and humane immigration system that upholds our laws and values.

DHS is currently in the process of completing all Privacy requirements. This response will be updated at a later time.

There is no question of a sensitive nature.

• Indicate the number of respondents, frequency of response, annual hour burden, and an explanation of how the burden was estimated. Unless directed to do so, agencies should not conduct special surveys to obtain information on which to base hour burden estimates. Consultation with a sample (fewer than 10) of potential respondents is desirable. If the hour burden on respondents is expected to vary widely because of differences in activity, size, or complexity, show the range of estimated hour burden, and explain the reasons for the variance. Generally, estimates should not include burden hours for customary and usual business practices.

• If this request for approval covers more than one form, provide separate hour burden estimates for each form and aggregate the hour burdens in Item 13 of OMB Form 83-I.

• Provide estimates of annualized cost to respondents for the hour burdens for collections of information, identifying and using appropriate wage rate categories. The cost of contracting out or paying outside parties for information collection activities should not be included here. Instead, this cost should be included in Item 14.

The estimated number of respondents for this collection instrument is approximately 105,000. 85,000 of these parolees/respondents have already moved through the resettlement process while the Hummingbird application was hosted in the DoS ServiceNow environment. Another approximately 20,000 respondents will be moving through the system after the migration to DHS HQ is complete. Field workers at safe havens in the United States verbally gather biographical and contact information once from the enrollee. All other information is entered by field workers as they complete tasks in Hummingbird or entered and updated via system interconnections. This intake information takes an estimated 30 minutes to gather.

The total burden for parolees who have already been processed while Hummingbird resided at the DoS: 42,500 hours.

The total burden for parolees who will be processed after Hummingbird is migrated to the DHS HQ environment: 10,000 hours.

Total Burden for the Hummingbird Program: 52,500.

Please note, this program will close once all Afghan refugees have been resettled. It is not intended to be a multi-year program.

This information was gathered from program experts.

Hummingbird—Estimated Annualized Burden Hours and Costs
Type of respondent | Form name | Number of respondents | Number of responses per respondent | Total number of responses | Total number of adult respondents * | Average burden per response in hours | Average hourly wage rate ** | Total respondent cost
Parolee | Hummingbird Intake | 105,000 | 1 | 105,000 | 63,000 | 0.5 | $27.07 | $852,705
* Total Respondent Cost was calculated for adults only. 60% of respondents are adults. 40% of respondents are children.
** The average hourly rate was pulled from the BLS.gov site using the All-Occupations category (00-0000).

May 2020 National Occupational Employment and Wage Estimates (bls.gov).

There is no annual cost burden associated with this collection.

There are no record keeping, capital, start-up or maintenance costs associated with this information collection.

Hummingbird—Annual Cost to the Federal Government—DHS HQ Costs Only
Item | Cost ($)
Contract Costs: |
Infrastructure | $ 47,200
Labor Support | 415,000
Federal Staff Salaries: |
Federal Staff (2 FTEs: Grade 14 + .3 FTE: Grade 15) | 346,514
Facilities [cost for renting, overhead, etc. for data collection activity] |
Computer Hardware and Software [cost of equipment annual lifecycle] |
Equipment Maintenance [cost of annual maintenance/service agreements for equipment] |
Printing |
Postage |
Travel |
Total | 808,714

This is a new information collection. There has been no change to the information collected under the emergency approval and there are no changes to the burden associated with the collection.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security (DHS).

Title: DHS Hummingbird on ServiceNow Platform.

OMB Number: 1601-0033.

Frequency: Annually.

Affected Public: Public.

Number of Respondents: 105,000.

Estimated Time per Respondent: .5.

Total Burden Hours: 52,500.

Robert Dorr,
Executive Director, Business Management Directorate.

[FR Doc. 2022-14058 Filed 6-30-22; 8:45 am]

BILLING CODE 9112-FL-P